DEPARTMENT OF HEALTH AND HUMAN SERVICES

Centers for Disease Control and Prevention

Rescission of Embargo Prohibiting the Importation of Dracaena (Lucky Bamboo) in Standing Water Into the United States

AGENCY: Centers for Disease Control and Prevention (CDC), Department of Health and Human Services (HHS).

ACTION: Notice.

SUMMARY: Based on a review of existing import requirements, CDC has determined that the import restrictions for Dracaena (Lucky Bamboo) shipped in standing water are no longer necessary to protect the public's health and should therefore be rescinded. Accordingly, effective immediately, CDC is rescinding its embargo on importation of Dracaena Shipments in Standing Water (July 10, 2001).

DATES: CDC's embargo on importation of Dracaena shipments in standing water is rescinded on August 22, 2025.

FOR FURTHER INFORMATION CONTACT: Ashley C. Altenburger, J.D., Division of Global Migration Health, Centers for Disease Control and Prevention, U.S. Department of Health and Human Services, 1600 Clifton Road NE, MS H16-4, Atlanta, Georgia 30329; telephone 1-800-232-4636. For information regarding CDC operations and CDC-regulated importations, please contact: Mark E. Laughlin, D.V.M., Division of Global Migration Health, Centers for Disease Control and Prevention, U.S. Department of Health and Human Services, 1600 Clifton Road NE, MS H16-4, Atlanta, Georgia 30329; telephone 1-800-232-4636.

SUPPLEMENTARY INFORMATION: CDC is rescinding its embargo on the importation of Dracaena (Lucky Bamboo). In keeping with its public health practice of reviewing the status of potential public health threats at U.S. ports of entry, the U.S. Centers for Disease Control and Prevention (CDC) within the U.S. Department of Health and Human Services (HHS), concluded, for the reasons outlined below, that importation restrictions for Lucky Bamboo no longer serve the interests of public health and should therefore be rescinded. Specifically, CDC has determined that the marginal public health benefit of this long-standing action does not outweigh the potential burden on importers.

Executive Order 14192 of January 31, 2025 on “Unleashing Prosperity Through Deregulation” requires that any new incremental costs associated with certain significant regulatory actions “shall, to the extent permitted by law, be offset by the elimination of existing costs associated with at least 10 prior regulations.” This notice, which rescinds an existing import requirement, meets the criteria of a “deregulatory action” under Executive Order 14192.

CDC Action

Asian Tiger Mosquito and Lucky Bamboo

1. Background

On June 14, 2001, CDC identified the Asian tiger mosquito (Aedes albopictus or A. albopictus) in maritime shipments of “lucky bamboo” (Dracaena species) arriving into the United States through Los Angeles, California. The Dracaena in the infested containers were shipped from China in small boxes with 5-10 cm (approximately 2-4 inches) of standing water, which provided a suitable breeding ground for the aggressive mosquito. Thirty importers of Dracaena plants were subsequently inspected and 40% of their stock were found to be infested. Across six California counties, 15 mosquito populations were discovered near importer operations. Employees at nurseries receiving Dracaena shipments complained of daytime-biting mosquitoes. Residents near the nurseries also reported being bitten. To prevent the introduction of the Asian Tiger mosquito in California and elsewhere in the United States, CDC published a notice of embargo in the Federal Register (66 FR 35984 (July 10, 2001)) prohibiting the importation of Dracaena in standing water under 42 CFR 71.32(b).

Prior to 2000, Dracaena plants were typically shipped dry, using airfreight as the means of transportation. However, increasing demand for lucky bamboo prompted exporters to transport larger plant shipments on maritime freight. To keep plants green on the 12-15-day journey by sea, lucky bamboo bundles were shipped in crates containing 5-10 cm of free-standing water. This change in shipping method resulted in A. albopictus exportation, as the aqueous environment provided a suitable breeding ground for the mosquito.

The Asian tiger mosquito is a competent vector for over 22 viral pathogens. Most notably, this list of viruses includes dengue virus, chikungunya virus, yellow fever virus, West Nile virus, and Zika virus. Despite the expansive variety of transmittable diseases, current data indicate that the Asian tiger mosquito plays a relatively minor role in viral transmission.¹

¹ European Centre for Disease Prevention and Control. https://ecdc.europa.eu/en/disease-vectors/facts/mosquito-factsheets/aedes-albopictus.

2. Rationale for Rescission

After CDC's notice of embargo was issued, lucky bamboo importers collaborated with CDC and California Department of Public Health to establish new packaging recommendations that mitigated the risk of A. albopictus infestation without compromising plant survival. Currently, lucky bamboo plants are kept green by placing the roots in plastic bags lined with water-absorbent material (hydrogel).² This shipping method excludes free-standing water and is more cost-effective than the previous packaging as the new packaging method reduces the overall weight of a shipment, subsequently reducing costs associated with shipment mass. Beyond new packaging requirements, CDC further encouraged shipping centers to adopt additional measures to reduce the risk of infestation. Packing facilities were instructed to purchase automatic-closing doors and to treat Dracaena shipments with pesticides prior to packaging in sealed cargo.³

² There is some evidence to suggest that Aedes albopictus can survive on hydrogel, but this is considered very unlikely.

³ Linthicum KJ, Kramer VL, Madon MB, Fujioka K; Surveillance-Control Team. Introduction and potential establishment of Aedes albopictus in California in 2001. J Am Mosq Control Assoc. 2003 Dec;19(4):301-8.

U.S. Department of Agriculture—Animal and Plant Health Inspection Service (USDA—APHIS) has also increased its regulatory oversight over Dracaena importation since the implementation of CDC's 2001 embargo. Because California and other areas of the United States currently sustain stable populations of the Aedes albopictus, lucky bamboo falls under the “general restrictions” of the Plant Protection Act. These restrictions stipulate that Dracaena plants enter at a U.S. Customs and Border Protection-approved port of entry equipped with a plant inspection station. Further, Dracaena require a phytosanitary certificate for admission. This document is issued by the National Plant Protection Organization of the country in which the Dracaena are grown, and it indicates that plant products meet specified phytosanitary import requirements.

3. Conclusion

CDC has determined that the 2001 notice of embargo prohibiting the importation of Dracaena in standing water is no longer needed to protect the public's health and should therefore be rescinded. First, importers have developed safer and more cost-effective packaging protocols and rescission of the embargo would be unlikely to result in alterations in how importers choose to ship these products. Second, USDA's APHIS-PPQ (Plant Protection and Quarantine) programmatic efforts are currently sufficient to prevent the accidental introduction of foreign mosquitos. Third, because California and other areas of the United States currently sustain stable populations of Aedes albopictus, and A. albopictus is now endemic in the United States, continuing the current embargo would have only marginal public health benefit. For these reasons, the notice of embargo prohibiting the importation of Dracaena in standing water published at 66 FR 35984 (July 10, 2001) is hereby rescinded.

Immediate Action

Effective immediately, for the reasons outlined above, HHS/CDC rescinds the following: Embargo on Importation of Dracaena Shipments in Standing Water (July 10, 2001).

David Fitter,
Director, Division of Global Migration Health Centers for Disease Control and Prevention U.S. Department of Health and Human Services.

[FR Doc. 2025-16061 Filed 8-21-25; 8:45 am]

BILLING CODE 4163-18-P